DEPARTMENT OF ENERGY

Federal Energy Regulatory Commission

[Docket Nos. EL14-22-000; EL14-25-000; EL14-26-000; EL14-27-000]

California Independent System Operator Corporation, Midcontinent Independent System Operator, Inc., New York Independent System Operator, Inc. , Southwest Power Pool, Inc.; Notice of FERC Staff Attendance

The Federal Energy Regulatory Commission (Commission) hereby gives notice that, pursuant to the November 15, 2012 Order Directing Further Conferences and Reports in Docket No. AD12-12-000,¹ members of its staff may continue to listen to conference calls on regional progress in addressing gas-electric coordination issues conducted by: Midcontinent Independent System Operator, Inc. Electric and Natural Gas Coordination Task Force, New York Independent System Operator, Inc. Electric Gas Coordination Working Group, Pacific Northwest Utilities Conference Committee Power and Natural Gas Taskforce, and Southwest Power Pool, Inc. Gas Electric Coordination Task Force. The agenda and other documents for these conference calls are available on the relevant regional Web sites, including:

¹ Coordination Between Natural Gas and Electricity Markets, 141 FERC ¶ 61,125 (2012).

https://www.misoenergy.org/StakeholderCenter/CommitteesWorkGroupsTaskForces/ENGCTF/Pages/home.aspx

http://www.nyiso.com/public/markets_operations/committees/meeting_materials/index.jsp?com=bic_egcwg

http://www.pnucc.org/system-planning/power-natural-gas-taskforce

http://www.spp.org/committee_detail.asp?commID=123.

According to the organizers of these meetings, they are open to all interested parties. Commission staff, consistent with the Commission's November 15, 2012 Order, plans to listen to these meetings as part of monitoring the progress being made within each region on natural gas and electric coordination activities. The meetings may discuss matters at issue in the above-captioned dockets.

For Further Information Contact: Caroline Wozniak at caroline.wozniak@ferc.gov or (202) 502-8931.

Dated: September 17, 2014.
Kimberly D. Bose,
Secretary.

[FR Doc. 2014-22643 Filed 9-23-14; 8:45 am]

BILLING CODE 6717-01-P